DEPARTMENT OF AGRICULTURE

Commodity Credit Corporation 2003-Crop Year Beet Sugar Marketing Allocations

AGENCY: Commodity Credit Corporation, USDA.

ACTION: Notice of public hearing.

SUMMARY: The Commodity Credit Corporation (CCC) will hold a public hearing to receive comments on (1) a new entrant's beet sugar allocation request and possible impacts on existing beet processors and producers, and (2) increasing an existing beet processor's allocation beginning in FY 2004.

DATES: The public hearing will be held June 16, 2003, in room 107-A of the U.S. Department of Agriculture (USDA) Jamie L. Whitten Federal Building, 12th and Jefferson Drive, SW., Washington, DC. The hearing will start at 9:30 a.m. Eastern Daylight Time (EDT).

ADDRESSES: Barbara Fecso, Dairy and Sweeteners Analysis Group, Economic Policy and Analysis Staff, Farm Service Agency, USDA, 1400 Independence Avenue, SW., STOP 0516, Washington, DC 20250-0516; telephone (202) 720-4146; FAX (202) 690-1480; e-mail: barbara.fecso@usda.gov.

FOR FURTHER INFORMATION CONTACT: Barbara Fecso at (202) 720-4146.

SUPPLEMENTARY INFORMATION: USDA will hold a public hearing regarding the application of Cargill, Inc. (Cargill), for a new entrant beet sugar marketing allocation for the 2003 crop year. Cargill is requesting a 2003-crop year allocation of 80,000 short tons, raw value, annually, for years 2003 through 2007. The facility will be located in Renville, Minnesota.

Section 359d(b)(2)(H)(i) of the Agricultural Adjustment Act of 1938, as amended by the Farm Security and Rural Investment Act of 2002, authorizes CCC to assign an allocation for beet sugar to any entity who (1) starts processing sugar beets after the date of enactment of this section, and (2) does not already have an allocation of beet sugar. The statute provides that the allocation of beet sugar to the new entrant shall provide a fair and equitable distribution of the allocations for beet sugar while reducing the allocations of beet sugar of all other processors on a pro rata basis to reflect the new allocation.

Cargill has requested a beet sugar marketing allocation as a new entrant through an agreement with Southern Minnesota Beet Sugar Cooperative's (Southern Minnesota) growers for a beet supply and a tolling agreement with Southern Minnesota to extract the sugar from Cargill's beets.

CCC will also use this hearing to collect comments on any adverse effects that the allocation to Cargill would have on existing sugar beet processors and producers.

In addition, CCC will hear comments on the request by the Pacific Northwest Sugar Company, LLC (PNS) to increase its allocation 1.5 percent of the sum of all beet sugar producers' production history. Of this increase, 0.25 percent is requested based on the opening of a molasses desugaring facility in summer 1999. The balance, 1.25 percent, is based on PNS's request for a 1998-crop quality loss adjustment as required by Section 359d(b)(2)(D)(ii)(IV) of the Agricultural Adjustment Act of 1938, as amended. CCC notes that PNW certified on September 13, 2002, to CCC that it had not opened an eligible desugaring facility or suffered an eligible quality loss when they were surveyed about those issues.

The hearing will be held on June 16, 2003, from 9:30 a.m. to 12 p.m. EDT in room 107-A of the Jamie L. Whitten Building, 12th and Jefferson Drive, SW., Washington, DC. Attendance is open to interested parties.

Anyone wishing to make an oral statement may do so, time permitting. Each comment will be limited to 5 minutes. A sign up sheet for oral statements will be available at the entrance of room 107-A one hour before the hearing begins. Oral statements will be made in the order the requests are received. Anyone wishing to make a written statement in lieu of or in addition to an oral statement should send their statement to Barbara Fecso, Dairy and Sweeteners Analysis Group, Economic Policy and Analysis Staff, Farm Service Agency, USDA, 1400 Independence Avenue, SW., STOP 0516, Washington, DC 20250-0516; e-mail: barbara.fecso@usda.gov. Statements must be received by close of business on June 15, 2003.

Persons with disabilities who require special accommodations to attend or participate in the hearing should contact Barbara Fecso.

Signed in Washington, DC on June 2, 2003.
James R. Little,
Executive Vice President, Commodity Credit Corporation.

[FR Doc. 03-14250 Filed 6-2-03; 4:05 pm]

BILLING CODE 3410-05-P